DEPARTMENT OF TRANSPORTATION

Federal Railroad Administration

Tier 2 Environmental Impact Statement for the Chicago to Joliet High-Speed Rail Project, Cook and Will counties, Illinois

AGENCY: Federal Railroad Administration (FRA), Department of Transportation (DOT).

ACTION: Notice of Intent to Prepare an Environmental Impact Statement (EIS).

SUMMARY: FRA issues this Notice of Intent (Notice) to advise the public that FRA and the Illinois Department of Transportation (IDOT) will jointly prepare a Tier 2 Environmental Impact Statement (EIS) for the Chicago to Joliet High-Speed Rail (HSR) Project (Project). The EIS will evaluate environmental and related impacts of upgrading the rail system and associated infrastructure between the Chicago, IL Union Station and the Joliet, IL Union Station to implement high-speed passenger rail service, increase rail capacity, and improve reliability for identified incremental service additions.

FRA issues this Notice to solicit public and agency input into the development of the scope of the EIS and to advise the public that outreach activities conducted by FRA and IDOT will be considered in the preparation of the EIS. To ensure all significant issues are identified and considered, the public, governmental agencies, and all other interested parties are invited to comment on the scope of the EIS, including the purpose and need, alternatives to be considered, impacts to be evaluated, and methodologies to be used in the evaluation.

DATES: Written comments on the scope of the EIS should be provided to IDOT within thirty (30) days of the publication of this Notice, at the address listed below. Comments may also be provided orally or in writing at the scoping meetings for the Project. Scoping meeting dates, times and locations, in addition to Project information can be found online on the FRA Web site at http://www.fra.dot.gov and on the Project Web site at www.idothsr.org. Three scoping meetings will be held during February 2014. These meetings will be advertised locally and are scheduled for the following locations on the dates indicated below from 4 p.m.-7 p.m.

• February 24, 2014: Chicago Union Station, The Union Gallery, 500 W. Jackson Boulevard, Chicago, IL 60661.

• February 26, 2014: Jacob Henry Mansion, Victorian Ballroom, 15 S. Richards Street, Joliet, IL 60433.

• February 27, 2014: Homewood Suites by Hilton Orland Park, 6245 S La Grange Road, Orland Park, IL 60467.

ADDRESSES: Written comments on the scope of the EIS should be mailed or emailed within thirty (30) days of the publication of this Notice to Mr. John Oimoen, Deputy Director, Department of Intermodal and Public Transit, Illinois Department of Transportation, 100 West Randolph Street, Suite 6-600, Chicago, Illinois 60601, john.oimoen@illinois.gov.

FOR FURTHER INFORMATION CONTACT: Ms. Andrea Martin, Environmental Protection Specialist, Office of Railroad Policy and Development, Federal Railroad Administration, 1200 New Jersey Avenue SE, (Mail Stop 20), Washington, DC 20590, andrea.martin@dot.gov; or Mr. John Oimoen at the above address. Information and documents regarding the EIS process will also be made available through the FRA Web site at www.fra.dot.gov and on the Project Web site at www.idothsr.org

SUPPLEMENTARY INFORMATION: FRA is preparing an EIS for the Project proposed by IDOT that will provide HSR service along the Rock Island District (RID) Railroad corridor between Chicago and Joliet, IL. The proposed Project consists of additional track, geometric improvements (e.g., curves), bridge/culvert improvements, grade separations at selected highway-rail crossings, a rail-rail flyover, highway-rail grade crossing warning device improvements, safety improvements to existing Metra Stations to accommodate the HSR through traffic, and a new HSR station or improvements to an existing Metra Station to accommodate HSR service. Scenarios of HSR service will be developed and evaluated including additional frequencies (i.e., number of trips), ridership projections (i.e., estimated number of passengers), and operating speeds.

The Project is intended to implement a portion of the Chicago to St. Louis HSR Corridor Program consistent with the overall purpose and need that was established in the Tier 1 EIS. Because of inadequate rail capacity and deficiencies in the existing rail infrastructure, there is currently a modal imbalance within the Chicago to St. Louis corridor. Currently, 98 percent of the 51 million trips made annually within the Chicago to St. Louis corridor are accomplished through automobile, with only one percent by passenger rail. This modal imbalance contributes to high roadway congestion, reduced overall traveler safety, increased air pollutant emissions and energy consumption, travel delays, and increased travel unreliability. The purpose of the proposed Chicago to St. Louis HSR Corridor Program is to enhance the passenger transportation network in the Chicago to St. Louis HSR Corridor by improving high-speed passenger rail service, resulting in a more balanced use of different travel options by diverting trips made by automobile and air to rail. Enhancements to passenger rail service would include reduced travel times, improved service reliability, increased frequency of trips, and increased capacity. Increased use of passenger rail is expected to result in an overall improvement in traveler safety in the corridor, and a reduction in air pollutant emissions and energy consumption. The EIS will evaluate the potential environmental and related impacts of constructing and operating the Project within the existing RID Railroad corridor between Chicago and Joliet, IL.

Environmental Review Process

The EIS will be developed in accordance with the Council on Environmental Quality (CEQ) regulations (40 CFR part 1500 et. seq.) implementing the National Environmental Policy Act of 1969 (42 U.S.C. 321 et seq.) (NEPA) and FRA's Procedures for Considering Environmental Impacts (64 FR 28545, May 26, 1999). In addition to NEPA, the EIS will address other applicable statutes, regulations and executive orders, including the 1980 Clean Air Act Amendments, Section 404 of the Clean Water Act, the National Historic Preservation Act, and Section 4(f) of the Department of Transportation Act, the Endangered Species Act and Executive Order 12898 on Environmental Justice. The FRA and IDOT are using a tiered process, as provided for in 40 CFR 1508.28 and in accordance with FRA guidance, in the completion of the environmental review of the Project. “Tiering” is a staged environmental review process applied to environmental reviews for complex projects. The Tier 1 EIS addressed broad corridor-level issues and alternatives. The Tier 2 EIS will analyze, at a greater level of detail, narrower site-specific proposals based on decisions made in Tier 1.

The purpose of the Tier 2 EIS will be to provide the FRA, reviewing and cooperating agencies, and the public with information to assess alternatives that will meet the Project's purpose and need; to evaluate the potential environmental impacts of each alternative; and to identify potential measures necessary to mitigate or avoid environmental impacts associated with the proposed Project alternatives.

Project Background

The FRA initiated the High-Speed Intercity Passenger Rail (HSIPR) Program in June 2009 as part of the American Recovery and Reinvestment Act (ARRA). On January 28, 2010, Illinois was selected for a $1.2 billion federal award to bring high-speed passenger rail service to Illinois between Dwight and the East St. Louis area. In addition, the Illinois Capital Bill appropriated $400 million for high-speed rail. In December 2010, an additional $42.3 million was received for construction upgrades. The City of Alton and Madison County also received a $13.9 million Transportation Investment Generating Economic Recovery (TIGER) Discretionary Grant for a transportation center in late 2011. And, in January 2012, $186.3 million was received for corridor improvements between Joliet and Dwight, IL. IDOT, local municipalities, and the UPRR have provided matching funds to this overall funding package.

In 2012, FRA completed a Final Program EIS for the Chicago to St. Louis HSR Corridor Program as the first phase of a tiered environmental review process, and issued a Record of Decision on the Final Program EIS on December 18, 2012. The Chicago to St. Louis HSR Corridor Program encompasses a corridor that is approximately 284 miles long with trains operating primarily on UPRR track with service provided by Amtrak. The improvements to the route will allow future passenger rail service from Chicago to St. Louis to operate at speeds up to 110 miles per hour (mph). The Tier 1 EIS established the purpose and need for the Chicago to St. Louis HSR Corridor Program, analyzed the Chicago to St. Louis HSR Corridor Program, and considered and evaluated alternatives including a no action alternative and multiple alternative alignments along existing rail corridors between Chicago and St. Louis. The Tier 1 EIS considered increasing the frequency of high-speed passenger rail service, as well as increasing the currently planned maximum speed of such service up to 110 miles per hour (mph), in the Corridor.

As part of the Tier 1 evaluation, FRA selected the Rock Island (RID) Corridor as the Preferred Alternative between Joliet and Chicago; the existing Amtrak route as the Preferred Alternative between Joliet and St. Louis; and a consolidated route along 10th Street through Springfield as the Preferred Alternative for the Springfield Rail Improvements Project. These proposed improvements were considered in addition to those improvements from Dwight to St. Louis associated with FRA's 2004 Record of Decision for the Chicago to St. Louis HSR Project and the 2011 Environmental Assessment (EA)/Finding of No Significant Impact (FONSI) for the UPRR's Track Improvement Project from Joliet to Dwight, IL.

As previously mentioned, FRA and IDOT will be responsible for implementing the Project and will jointly prepare a Tier 2 EIS. This Tier 2 EIS represents the next stage in the tiered environmental review process associated with the Chicago to St. Louis HSR Corridor Program. The Chicago to Joliet Tier 2 EIS will evaluate reasonable Build Alternatives that would be associated with the development and implementation of HSR service along the existing Rock Island Corridor (RID) Corridor in more detail, this component of the Selected Alternative carried forward from the Tier 1 study.

Tier 2 analyses are also being conducted for the Springfield flyover and Granite City to St. Louis segments. The Tier 2 evaluation for the Springfield Rail Improvements Project was conducted concurrently to the Tier 1 study. More information regarding the development, evaluation, and selection of alignments during the Tier 1 EIS process, the Chicago to St. Louis HSR Tier 1 Draft EIS, Final EIS, and ROD can be viewed at the following Web site: www.idothsr.org/tier_1.

In addition to the remaining Tier 2 Project components of the Chicago to St. Louis HSR Corridor Program that were identified in the Tier 1 ROD, there are four regional rail programs that relate to the Chicago to Joliet HSR Project being studied in this Tier 2 EIS: the Chicago Region Environmental and Transportation Efficiency Program (CREATE), Chicago-St. Louis 220 mph High-Speed Rail Express, Midwest Regional Rail Initiative (MWRRI), and Chicago-Detroit/Pontiac Passenger Rail Corridor Program.

CREATE is a cooperative effort between the U.S. Department of Transportation, the State of Illinois, the City of Chicago, the Metropolitan Rail Corporation (Metra), the National Railroad Passenger Corporation (Amtrak), and six freight railroads to improve freight and passenger rail efficiency and to reduce rail/highway traffic conflicts. There are five projects specifically identified by CREATE: P1 (63rd Street and State Street in Chicago); P2 (74th Street in Chicago), P3 (75th Street in Chicago) and EW2 (80th Street in Chicago), which are being evaluated together as the 75th Street Corridor Improvement Project; and P4 (Grand Crossing in Chicago) that may involve high-speed rail service within the Chicago-Joliet portion of the corridor, depending on the corridor recommendations of this EIS study. More information is available at the CREATE Web site at http://www.createprogram.org, the 75th Street Corridor Improvement Project Web site at http://75thcip.org, and the Grand Crossing Rail Project Web site at http://grandcrossingrail.com.

The Chicago-St. Louis 220 mph High-Speed Rail Express is a concept being pursued by IDOT. This service, at speeds up to 220 mph, may utilize existing rail corridors, a new corridor, or a combination of both, and could serve different travel markets. The 220 mph concept is intended as a complementary service to the HSR service that was evaluated in the Chicago-St. Louis Tier 1 EIS. A feasibility study was prepared in 2009 by the Midwest High Speed Rail Association that indicated that a completely grade separated route could be established by modifying existing rail corridors to connect Chicago, Champaign, Decatur and Springfield, Illinois with St. Louis, Missouri, with a one-way terminal-to-terminal trip time of approximately two hours, utilizing a maximum speed of 220 mph. Also in 2009, an Expression of Interest was prepared by the French National Railways (SNCF) in response to the FRA's Request for Expression of Interest dated December 11, 2008. The SNCF proposed a HSR route to be located adjacent to existing rail corridors and sharing existing rail corridors in urban approaches at lower speeds. IDOT intends to further study the 220 mph project concept, including development of an investment-grade business plan. IDOT completed a preliminary feasibility study for the 220 mph project in September 2013.

MWRRI is an effort of nine Midwestern States to upgrade Amtrak service in those states, with maximum speeds of 79 to 110 mph depending on the level of improvements made. A Chicago-St. Louis corridor is included in MWRRI's September 2004 Executive Report and November 2006 Benefit Cost and Economic Analysis. Additional corridors proposed by MWRRI include: Chicago-Green Bay, Wisconsin; Chicago-Minneapolis, Minnesota; St. Louis-Kansas City, Missouri; Chicago-Cincinnati, Ohio; Chicago-Cleveland, Ohio; Chicago-Detroit, Michigan; Chicago-Port Huron, Michigan; Chicago-Carbondale, Illinois; Chicago-Quincy, Illinois; and Chicago-Omaha, Nebraska. Several other feeder corridors connecting smaller municipalities to the primary corridors are also included. More information is available at www.dot.wisconsin.gov/projects/rail.htm.

As part of the Chicago-Detroit/Pontiac Passenger Rail Corridor Program, FRA and the Michigan Department of Transportation (MDOT) are jointly preparing a Tier 1 EIS to evaluate passenger rail service improvements along the Chicago, Illinois to Detroit-Pontiac, Michigan regional passenger rail corridor. Partnering state agencies in the development of the EIS are IDOT and Indiana Department of Transportation (INDOT). The objectives of the Tier 1 EIS are to evaluate a reasonable range of alternatives, select a rail corridor, and make decisions regarding future improvements to intercity passenger rail service provided in the corridor, including increased train frequency, reduced trip time, and improved on-time performance. Alternatives under consideration will include a No-build Alternative, as well as multiple build alternatives between Chicago, Illinois and Porter, Indiana, near Battle Creek, Michigan, and in the Detroit, Michigan region. The Build Alternatives may include infrastructure improvements to the existing rail corridor, the development of a new rail corridor, or a combination of both. More information is available at www.greatlakesrail.org.

Although related, the successful implementation of the Chicago to Joliet HSR Project is not dependent on the completion of the above four programs. As indicated above, however, the five CREATE projects may involve and affect high-speed rail service within the Project corridor. The P1 CREATE project is under construction. The other four are undergoing NEPA studies at this time. Where the three CREATE projects still under study are integrated into the Chicago to Joliet HSR Project alternatives, their impacts will be considered. Finally, the Chicago to Joliet HSR Project will not restrict consideration of alternatives for the above four projects.

Scoping and Public Involvement

FRA encourages broad participation in the Tier 2 EIS process during scoping and review of the resulting environmental documents. Comments are invited from all interested agencies and the public to ensure the full range of issues related to the Project are addressed, reasonable alternatives are considered, and significant issues are identified. In particular, FRA is interested in identifying areas of environmental concern where there might be a potential for significant impacts. Public agencies with jurisdiction are requested to advise FRA and IDOT of the applicable permit and environmental review requirements of each agency, and the scope and content of the environmental information that is germane to the agency's statutory responsibilities in connection with the proposed Project. Public agencies are requested to advise FRA if they anticipate taking a major action in connection with the proposed Project and if they wish to cooperate in the preparation of the EIS.

Public scoping opportunities and meetings will be scheduled as described above and are an important component of the scoping process for federal environmental review. FRA is seeking participation and input of all interested federal, state, and local agencies, Native American groups, and other concerned private organizations and individuals on the scope of the EIS. The Project may affect historic properties and may be subject to the requirements of Section 106 of the National Historic Preservation Act of 1966 (NHPA) (16 U.S.C. 470(f)). In accordance with regulations issued by the Advisory Council on Historic Preservation (36 CFR part 800), FRA intends to coordinate compliance with Section 106 of the NHPA with the preparation of the EIS, beginning with the identification of consulting parties through the scoping process, in a manner consistent with the standards set out in 36 CFR 800.8. FRA encourages broad participation in the Tier 2 EIS process during scoping and review of the resulting environmental documents. Comments are invited from the public, governmental agencies, and all other interested parties to ensure the full range of issues related to the Project are addressed, reasonable alternatives are considered, and significant issues are identified. In particular, FRA is interested in identifying areas of environmental concern where there might be a potential for significant impacts. Public agencies with jurisdiction are requested to advise FRA and IDOT of the applicable permit and environmental review requirements of each agency, and the scope and content of the environmental information that is germane to the agency's statutory responsibilities in connection with the proposed Project. Public agencies are requested to advise FRA if they anticipate taking a major action in connection with the proposed Project and if they wish to cooperate in the preparation of the EIS.

Public scoping opportunities and meetings will be scheduled as described above and are an important component of the scoping process for federal environmental review. FRA is seeking participation and input of all interested federal, state, and local agencies, Native American groups, and other concerned private organizations and individuals on the scope of the EIS. The proposed Project is a federal undertaking with the potential to affect historic properties. As such, it is subject to the requirements of Section 106 of the National Historic Preservation Act of 1966 (NHPA) (16 U.S.C. 470(f)). In accordance with regulations issued by the Advisory Council on Historic Preservation (36 CFR part 800), FRA intends to coordinate compliance with Section 106 of the NHPA with the preparation of the EIS, beginning with the identification of consulting parties through the scoping process, in a manner consistent with the standards set out in 36 CFR 800.8.

Issued in Washington, DC, on February 11, 2014.
Corey W. Hill,
Director, Office of Passenger and Freight Programs.

[FR Doc. 2014-03325 Filed 2-14-14; 8:45 am]

BILLING CODE 4910-06-P